DEPARTMENT OF COMMERCE

National Oceanic and Atmospheric Administration

[RTID 0648-XB103]

Atlantic Highly Migratory Species; Amendment 13 to the 2006 Consolidated Atlantic Highly Migratory Species Fishery Management Plan; Bluefin Tuna Management

AGENCY: National Marine Fisheries Service (NMFS), National Oceanic and Atmospheric Administration (NOAA), Commerce.

ACTION: Notice of public hearing webinars.

SUMMARY: NMFS announces the schedule of public hearing webinars for the proposed rule for Amendment 13 to the 2006 Consolidated Atlantic Highly Migratory Species Fishery Management Plan (FMP) (Amendment 13). NMFS will provide information on the proposed management measures and take questions and comments from the public. The proposed measures would make several changes to the Individual Bluefin Quota (IBQ) Program, including distributing IBQ shares only to active vessels, implementing a cap on IBQ shares that may be held by an entity, and implementing a cost recovery program. The proposed measures would also discontinue the Purse Seine category and reallocate that bluefin quota to other directed quota categories; cap Harpoon category daily bluefin landings; modify the recreational trophy bluefin areas and subquotas; modify regulations regarding electronic monitoring of the pelagic longline fishery as well as green-stick use; and modify the regulation regarding permit category changes.

DATES: Public hearing webinars will be held on the dates listed below in Table 1 under SUPPLEMENTARY INFORMATION.

FOR FURTHER INFORMATION CONTACT: Thomas Warren, thomas.warren@noaa.gov, 978-281-9260, or Carrie Soltanoff, Carrie.Soltanoff@noaa.gov, 301-427-8503.

SUPPLEMENTARY INFORMATION:

Background

Atlantic highly migratory species (HMS) are managed under the dual authority of the Magnuson-Stevens Fishery Management and Conservation Act (Magnuson-Stevens Act) and the Atlantic Tunas Convention Act. Under these authorities, regulations at 50 CFR part 635 implement the 2006 Consolidated HMS FMP as amended (copies are available upon request). NMFS began the process of considering new regulations focused on the management of bluefin tuna in 2019, when it announced scoping meetings and its intent to prepare environmental analyses under the National Environmental Policy Act (84 FR 23020; May 21, 2019). During 2019, NMFS conducted scoping meetings and subsequently began developing a Draft Environmental Impact Statement (DEIS) based on public and HMS Advisory Panel input, and relevant data.

NMFS announces public hearing webinars for the Amendment 13 proposed rule and DEIS. The proposed rule and a Notice of Availability of the DEIS published in separate Federal Register documents. The proposed rule published on May 21, 2021 (86 FR 27686) with a 60-day comment period, ending July 20, 2021. The proposed measures are as listed in the summary. The specifics of the proposed management measures are provided in the proposed rule and DEIS and are not repeated here. Until the proposed rule and environmental analyses are finalized or until other regulations are put into place, the current regulations remain in effect.

NMFS encourages participation by all people affected by or otherwise interested in recreational and commercial HMS fishing to participate in the public hearing webinars, at which NMFS will provide information on the proposed management measures and take questions and comments from the public. Participants are encouraged to log on and/or call into the public webinars, at the dates and times listed in Table 1 below. Requests for sign language interpretation or other auxiliary aids should be directed to Tom Warren or Carrie Soltanoff, at least 7 days prior to the meeting.

In addition to the dates and times in Table 1, NMFS has requested time on the agenda at the five Atlantic based Fishery Management Council meetings. If added to the Council agendas, the dates and times would be included in the agenda for those individual meetings and are not provided here.

Table 1—Dates, Times, and Details of the Public Hearing Webinars
Date | Time | Details on how to join the webinar: see website
June 8, 2021 | 2 to 4 p.m | https://www.fisheries.noaa.gov/action/amendment-13-2006-consolidated-hms-fishery-management-plan-bluefin-management-measures.
July 8, 2021 | 2 to 4 p.m | https://www.fisheries.noaa.gov/action/amendment-13-2006-consolidated-hms-fishery-management-plan-bluefin-management-measures.
July 14, 2021 | 2 to 4 p.m | https://www.fisheries.noaa.gov/action/amendment-13-2006-consolidated-hms-fishery-management-plan-bluefin-management-measures.

The public is reminded that NMFS expects participants at the public hearing webinars to conduct themselves appropriately. At the beginning of each webinar, a representative of NMFS will explain the ground rules (e.g., attendees will be called to give their comments in the order in which they registered to speak; each attendee will have an equal amount of time to speak; and attendees should not interrupt one another). The NMFS representative will attempt to structure the webinar so that all attending members of the public will be able to comment, if they so choose. Attendees are expected to respect the ground rules, and, if they do not, they may be asked to leave the webinar.

Authority: 16 U.S.C. 971 et seq.; 16 U.S.C. 1801 et seq.

Dated: June 1, 2021.
Jennifer M. Wallace,
Acting Director, Office of Sustainable Fisheries, National Marine Fisheries Service.

[FR Doc. 2021-11833 Filed 6-4-21; 8:45 am]

BILLING CODE 3510-22-P